FEDERAL RESERVE SYSTEM

Change in Bank Control Notices; Acquisitions of Shares of a Bank or Bank Holding Company

The notificants listed below have applied under the Change in Bank Control Act (12 U.S.C. 1817(j)) and section 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 4, 2015.

A. Federal Reserve Bank of Atlanta (Chapelle Davis, Assistant Vice President) 1000 Peachtree Street NE., Atlanta, Georgia 30309:

1. Meredith R. Willson, individually and as co-trustee of the Hugh M. Willson S Corp Family Trust and the Hugh M. Willson S Corp Marital Trust, all of Athens, Tennessee, to retain voting shares of Citizens National Bancorp, Inc., and thereby indirectly retain voting shares of Citizens National Bank, both in Athens, Tennessee; and by the Hugh M. Willson S Corp Family Trust, and the Hugh M. Willson S Corp Marital Trust (Meredith R. Willson and Paul G. Willson, co-trustees of both) and Debra M. Willson; all of Athens, Tennessee, to join the previously approved Willson Family control group.

B. Federal Reserve Bank of Kansas City (Dennis Denney, Assistant Vice President) 1 Memorial Drive, Kansas City, Missouri 64198-0001:

1. Ronald L. Mordy and Margaret S. Mordy, as trustees of the Ronald L. Mordy and Margaret S. Mordy Revocable Living Trust, Dated 8-20-02, all of Independence, Kansas; to acquire voting shares of 1889 Bancshares, Inc., and thereby indirectly acquire voting shares of The First National Bank of Nevada, both in Nevada, Missouri. In addition, Joseph W. Swearingen, as a member of the Swearingen/Mordy family group, has applied to retain voting shares of 1889 Bancshares, Inc., and thereby indirectly acquire voting shares of The First National Bank of Nevada, both in Nevada, Missouri.

Board of Governors of the Federal Reserve System, April 14, 2015.
Michael J. Lewandowski,
Associate Secretary of the Board.

[FR Doc. 2015-08859 Filed 4-16-15; 8:45 am]

BILLING CODE 6210-01-P